DEPARTMENT OF STATE

[Public Notice: 12706; No. 2025-02]

Designation and Determination Pursuant to the Foreign Missions Act

Pursuant to the authority vested in the Secretary of State under the Foreign Missions Act, 22 U.S.C. 4301 et seq (“the Act”), and delegated pursuant to Department of State Delegation of Authority No. 214 of September 20, 1994, I hereby designate all engagements with representatives of and visits to state, local, and municipal governments, educational institutions, and research facilities, including national laboratories and agricultural facilities, in the United States and its territories involving members of the Cuban bilateral mission to the United States as a benefit as defined in 22 U.S.C. 4302(a)(1).

Section 204(b) of the Act (22 U.S.C. 4304(b)) provides that the Secretary of State may require a foreign mission to obtain benefits from or through the Secretary on such terms and conditions as the Secretary may approve. Pursuant to the authority vested in the Secretary of State under Section 204(b) of the Act and delegated pursuant to Department of State Delegation of Authority No. 214 of September 20, 1994, I hereby determine it is reasonably necessary to achieve one or more of the purposes set forth in section 204(b) of the Act to require all Cuban bilateral mission members in the United States, including its representatives temporarily working in the United States, to submit prior notification to the Office of Foreign Missions of all engagements with representatives of or visits to:

1. State, local, and municipal governments in the United States and its territories;

2. Educational institutions in the United States and its territories; and,

3. Research facilities, including national laboratories and agricultural facilities, in the United States and its territories.

This benefit is subject to any modified or additional terms and conditions as may be approved by the Director or Deputy Director of the Office of Foreign Missions.

Dated: April 18, 2025.
Clifton C. Seagroves,
Acting Director, Office of Foreign Missions, Department of State.

[FR Doc. 2025-07965 Filed 5-6-25; 8:45 am]

BILLING CODE 4711-11-P